DEPARTMENT OF HEALTH AND HUMAN SERVICES

National Institutes of Health

Center for Scientific Review; Amended Notice of Meeting

Notice is hereby given of a change in the meeting of the Somatosensory and Chemosensory Systems Study Section, October 1, 2013, 8:00 a.m. to October 2, 2013, 5:30 p.m., National Institutes of Health, 6701 Rockledge Drive, Bethesda, MD 20892 which was published in the Federal Register on September 3, 2013, 78 FR 170, Pgs. 54259-54261.

The meeting will start on November 4, 2013 at 8:00 a.m. and end on November 4, 2013 at 6:00 p.m. The meeting location remains the same. The meeting is closed to the public.

Dated: October 25, 2013.
Anna Snouffer,
Deputy Director, Office of Federal Advisory Committee Policy.

[FR Doc. 2013-25882 Filed 10-30-13; 8:45 am]

BILLING CODE 4140-01-P